DEPARTMENT OF COMMERCE

International Trade Administration

[C-570-971]

Multilayered Wood Flooring From the People's Republic of China: Preliminary Results of Countervailing Duty Administrative Review, Rescission of Review, in Part, and Intent To Rescind the Review in Part; 2014

AGENCY: Enforcement and Compliance, International Trade Administration, Department of Commerce.

SUMMARY: The Department of Commerce (Department) preliminarily determines that countervailable subsidies are being provided to producers and exporters of multilayered wood flooring (wood flooring) from the People's Republic of China (PRC). The period of review (POR) is January 1, 2014, through December 31, 2014.

DATES: Effective January 9, 2017.

FOR FURTHER INFORMATION CONTACT: Dennis McClure or Sergio Balbontin, AD/CVD Operations, Office VIII, Enforcement and Compliance, International Trade Administration, U.S. Department of Commerce, 1401 Constitution Avenue NW., Washington, DC 20230; telephone: 202-482-5973 or 202-482-6478, respectively.

Scope of the Order

The product covered by the Order is wood flooring from the PRC. For a complete description of the scope of this administrative review, see the Preliminary Decision Memorandum.¹

¹ See Memorandum to Paul Piquado, Assistant Secretary for Enforcement and Compliance, from Christian Marsh, Deputy Assistant Secretary for Antidumping and Countervailing Duty Operations, “Decision Memorandum for the Preliminary Determination in the Countervailing Duty Administrative Review of Multilayered Wood Flooring from the People's Republic of China: 2014,” (Preliminary Decision Memorandum) dated concurrently with, and hereby adopted by, this notice.

The Preliminary Decision Memorandum is a public document and is on file electronically via Enforcement and Compliance's Antidumping and Countervailing Duty Centralized Electronic Service System (ACCESS). ACCESS is available to registered users at https://access.trade.gov and in the Central Records Unit, Room B8024 of the main Department building. In addition, a complete version of the Preliminary Decision Memorandum can be accessed directly on the Internet at http://enforcement.trade.gov/frn/index.html. The signed Preliminary Decision Memorandum and the electronic version of the Preliminary Decision Memorandum are identical in content.

A list of topics discussed in the Preliminary Decision Memorandum is included as Appendix I to this notice.

Rescission of Administrative Review, in Part

Pursuant to 19 CFR 351.213(d)(1), the Secretary will rescind an administrative review, in whole or in part, if the parties that requested a review withdraw the request within 90 days of the date of publication of the notice of initiation of the requested review. This review was initiated on February 9, 2016. One PRC producer/exporter of wood flooring, Jiangsu Keri Wood Co., Ltd. (Jiangsu Keri), withdrew its request for review on February 22, 2016, which was within the 90-day deadline. Therefore, in accordance with 19 CFR 351.213(d)(1), and consistent with our practice, we are rescinding this review with respect to Jiangsu Keri.

Intent To Rescind Administrative Review, in Part

We received timely filed no-shipment certifications from six companies.² Because there is no evidence on the record to indicate that Changbai Mountain, Shenyang Senwang, and Jiangsu Yuhui had entries of subject merchandise during the POR, pursuant to 19 CFR 351.213(d)(3), we intend to rescind the review with respect to these companies. A final decision regarding whether to rescind the review of these companies will be made in the final results of this review.

² See Letter from Changbai Mountain Development and Protection Zone Hongtu Wood Industrial Co., Ltd. (Changbai Mountain), Shenyang Senwang Wooden Industry Co., Ltd. (Shenyang Senwang), Henan Xingwangjia Technology Co., Ltd. (Henan Xingwangjia), Dalian Xinjinghua Wood Co., Ltd. (Dalian Xinjinghua), Xuzhou Antop International Trade Co., Ltd. (Xuzhou Antop), and Jiangsu Yuhui International Trade Co., Ltd., (Jiangsu Yuhui) “Multilayered Wood Flooring from the People's Republic of China: Submission of No Shipment Certifications,” dated February 18, 2016.

With respect to Dalian Xinjinghua, Henan Xingwangjia, and Xuzhou Antop, we preliminarily determine that there is sufficient evidence on the record of this review to conclude that these companies had reviewable transactions during the POR.³ Therefore, we are continuing to include Dalian Xinjinghua, Henan Xingwangjia, and Xuzhou Antop in this administrative review for purposes of the preliminary results.

³ See Preliminary Decision Memorandum.

Methodology

The Department is conducting this countervailing duty (CVD) review in accordance with section 751(a)(1)(A) of the Tariff Act of 1930, as amended (Act). For each of the subsidy programs found countervailable, we preliminarily determine that there is a subsidy, i.e., a financial contribution by an “authority” that confers a benefit to the recipient, and that the subsidy is specific.⁴ For a full description of the methodology underlying our preliminary conclusions, see the Preliminary Decision Memorandum.

⁴ See sections 771(5)(B) and (D) of the Act regarding financial contribution; section 771(5)(E) of the Act regarding benefit; and section 771(5A) of the Act regarding specificity.

In making these preliminary results, the Department relied, in part, on facts otherwise available.⁵ For further information, see “Provision of Electricity for Less Than Adequate Remuneration (LTAR)” in the Preliminary Decision Memorandum.

⁵ See section 776(a) of the Act.

Rate for Non-Selected Companies Under Review

There are 104 companies for which a review was requested and not rescinded, but were not selected as mandatory respondents. For these companies, we calculated the non-selected rate by averaging the rates of mandatory respondents Dalian Penghong Floor Products Co., Ltd. and Fine Furniture (Shanghai) Limited, based on their publicly ranged sales data for the POR, instead of weight-averaging based on their proprietary sales data for the POR, which would risk disclosure of proprietary information. For further information on the calculation of the non-selected rate, refer to the section in the Preliminary Decision Memorandum entitled, “Preliminary Ad Valorem Rate for Non-Selected Companies Under Review.”

Preliminary Results of the Review

In accordance with 19 CFR 351.221(b)(4)(i), we calculated a countervailable subsidy rate for each of the mandatory respondents, Dalian Penghong Floor Products Co., Ltd. (Penghong) and Fine Furniture (Shanghai) Limited (Fine Furniture), and their cross-owned affiliates where applicable.

We preliminarily find the countervailable subsidy rates for the mandatory respondents under review to be as follows:

Producer/exporter | Subsidy rate (percent)
Dalian Penghong Floor Products Co., Ltd | 1.45
Dalian Shumaike Floor Manufacturing Co. Ltd
Fine Furniture (Shanghai) Limited | 1.91

Review-Specific Average Rate Applicable to the Following Non-Selected Companies:

Producer/exporter | Subsidy rate (percent)
A&W (Shanghai) Woods Co., Ltd | 1.68
Anhui Boya Bamboo&Wood Products Co., Ltd | 1.68
Anhui Longhua Bamboo Product Co., Ltd | 1.68
Baishan Huafeng Wood Product Co., Ltd | 1.68
Baroque Timber Industries (Zhongshan) Co., Ltd | 1.68
Baiying Furniture Manufacturer Co., Ltd | 1.68
Benxi Wood Compan | 1.68
Changzhou Hawd Flooring Co., Ltd | 1.68
Cheng Hang Wood Co., Ltd | 1.68
Chinafloors Timber (China) Co., Ltd | 1.68
Dalian Dajen Wood Co., Ltd | 1.68
Dalian Huade Wood Product Co., Ltd | 1.68
Dalian Huilong Wooden Products Co., Ltd | 1.68
Dalian Jiahong Wood Industry Co., Lt | 1.68
Dalian Jiuyuan Wood Industry Co., Ltd | 1.68
Dalian Kemian Wood Industry Co., Ltd | 1.68
Dalian T-Boom Wood Products Co., Ltd | 1.68
Dalian Xinjinghua Wood Co., Ltd | 1.68
Dongtai Fuan Universal Dynamics, LLC | 1.68
Dongtai Zhangshi Wood Industry Co. Ltd | 1.68
Dun Hua City Jisen Wood Industry Co., Ltd | 1.68
Dun Hua Sen Tai Wood Co., Ltd | 1.68
Dunhua City Dexin Wood Industry Co., Ltd | 1.68
Dunhua City Hongyuan Wood Industry Co., Ltd | 1.68
Dunhua City Wanrong Wood Industry Co., Ltd | 1.68
Fu Lik Timber (HK) Co., Ltd | 1.68
Fusong Jinlong Wooden Group Co., Ltd | 1.68
Fusong Qianqiu Wooden Product Co., Ltd | 1.68
GTP International Ltd | 1.68
Guangdong Yihua Timber Industry Co., Ltd | 1.68
Guangzhou Homebon Timber Manufacturing Co., Ltd | 1.68
Guangzhou Panyu Kangda Board Co., Ltd | 1.68
Guangzhou Panyu Southern Star Co., Ltd | 1.68
HaiLin LinJing Wooden Products, Ltd | 1.68
HaiLin XinCheng Wooden Products, Ltd | 1.68
Hangzhou Dazhuang Floor Co., Ltd. (dba Dasso Industrial Group Co., Ltd. | 1.68
Hangzhou Hanje Tec Co., Ltd | 1.68
Hangzhou Huahi Wood Industry Co., Ltd | 1.68
Henan Xingwangjia Technology Co., Ltd | 1.68
Huber Engineering Wood Corp | 1.68
Hunchun Forest Wolf Wooden Industry Co., Ltd | 1.68
Hunchun Xingjia Wooden Flooring Inc | 1.68
Huzhou City Nanxun Guangda Wood Co., Ltd | 1.68
Huzhou Chenghang Wood Co., Ltd | 1.68
Huzhou Fulinmen Imp. & Exp. Co., Ltd | 1.68
Huzhou Fuma Wood Co., Ltd | 1.68
Huzhou Jesonwood Co., Ltd | 1.68
Huzhou Muyun Wood Co., Ltd | 1.68
Huzhou Sunergy World Trade Co., Ltd | 1.68
Jiafeng Wood (Suzhou) Co., Ltd | 1.68
Jiangsu Guyu International Trading Co., Ltd | 1.68
Jiangsu Keri Wood Co., Ltd | 1.68
Jiangsu Mingle Flooring Co | 1.68
Jiangsu Senmao Bamboo and Wood Industry Co., Ltd | 1.68
Jiangsu Simba Flooring Co., Ltd | 1.68
Jiashan Huijiale Decoration Material Co., Ltd | 1.68
Jiashan On-Line Lumber Co., Ltd | 1.68
Jiaxing Hengtong Wood Co., Ltd | 1.68
Jilin Forest Industry Jinqiao Flooring Group Co., Ltd | 1.68
Jilin Xinyuan Wooden Industry Co., Ltd | 1.68
Karly Wood Product Limited | 1.68
Kemian Wood Industry (Kunshan) Co., Ltd | 1.68
Kingman Floors Co., Ltd | 1.68
Linyi Anying Wood Co., Ltd | 1.68
Linyi Bonn Flooring Manufacturing Co., Ltd | 1.68
Linyi Youyou Wood Co., Ltd | 1.68
Mudanjiang Bosen Wood Industry Co., Ltd | 1.68
Nakahiro Jyou Sei Furniture (Dalian) Co., Ltd | 1.68
Pinge Timber Manufacturing (Zhejiang) Co., Ltd | 1.68
Puli Trading Limite | 1.68
Qingdao Barry Flooring Co., Ltd | 1.68
Riverside Plywood Corporation | 1.68
Samling Elegant Living Trading (Labuan) Limited | 1.68
Samling Riverside Co., Ltd | 1.68
Shandong Kaiyuan Wood Industry Co., Ltd | 1.68
Shanghai Anxin (Weiguang) Timber Co., Ltd | 1.68
Shanghai Eswell Timber Co., Ltd | 1.68
Shanghai Lairunde Wood Co., Ltd | 1.68
Shanghai Lizhong Wood Products Co., Ltd. (also known as The Lizhong Wood Industry Limited Company of Shanghai) | 1.68
Shanghai New Sihe Wood Co., Ltd | 1.68
Shanghai Shenlin Corporation | 1.68
Shenyang Haobainian Wooden Co., Ltd | 1.68
Shenzhenshi Huanwei Woods Co., Ltd | 1.68
Sino-Maple (Jiangsu) Co., Ltd | 1.68
Suzhou Dongda Wood Co., Ltd. (8M) | 1.68
Tongxiang Jisheng Import and Export Co., Ltd | 1.68
Vicwood Industry (Suzhou) Co. Ltd | 1.68
Xiamen Yung De Ornament Co., Ltd | 1.68
Xuzhou Antop International Trade Co., Ltd | 1.68
Xuzhou Shenghe Wood Co., Ltd | 1.68
Yekalon Industry, Inc | 1.68
Yingyi-Nature (Kunshan) Wood Industry Co., Ltd | 1.68
Yixing Lion-King Timber Industry | 1.68
Zhejiang AnJi Xinfeng Bamboo and Wood Industry Co., Ltd | 1.68
Zhejiang Biyork Wood Co., Ltd | 1.68
Zhejiang Dadongwu Green Home Wood Co., Ltd | 1.68
Zhejiang Desheng Wood Industry Co., Ltd | 1.68
Zhejiang Fudeli Timber Industry Co., Ltd | 1.68
Zhejiang Fuerjia Wooden Co., Ltd | 1.68
Zhejiang Fuma Warm Technology Co., Ltd. | 1.68
Zhejiang Haoyun Wooden Co., Ltd. | 1.68
Zhejiang Longsen Lumbering Co., Ltd. | 1.68
Zhejiang Shiyou Timber Co., Ltd. | 1.68
Zhejiang Shuimojiangnan New Material Technology Co., Ltd. | 1.68

Disclosure and Public Comment

We will disclose to parties in this proceeding the calculations performed in reaching the preliminary results within five days of publication of these preliminary results.⁶ Interested parties may submit written comments (case briefs) on the preliminary results no later than 30 days from the date of publication of this Federal Register notice, and rebuttal comments (rebuttal briefs) within five days after the time limit for filing case briefs.⁷ Pursuant to 19 CFR 351.309(d)(2), rebuttal briefs must be limited to issues raised in the case briefs. Parties who submit arguments are requested to submit with the argument: (1) A statement of the issue; (2) a brief summary of the argument; and (3) a table of authorities.

⁶ See 19 CFR 351.224(b).

⁷ See 19 CFR 351.309(c)(1)(ii) and 351.309(d)(1).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW., Washington, DC 20230, at a date and time to be determined.⁸ Parties should confirm by telephone the date, time, and location of the hearing two days before the scheduled date.

⁸ See 19 CFR 351.310.

Parties are reminded that briefs and hearing requests are to be filed electronically using ACCESS and that electronically filed documents must be received successfully in their entirety by 5 p.m. Eastern Time on the due date.

Unless the deadline is extended pursuant to section 751(a)(3)(A) of the Act, we intend to issue the final results of this administrative review, including the results of our analysis of the issues raised by the parties in their comments, within 120 days after publication of these preliminary results.

Assessment Rates

Consistent with section 751(a)(1) of the Act, upon issuance of the final results, the Department shall determine, and U.S. Customs and Border Protection (CBP) shall assess, countervailing duties on all appropriate entries covered by this review. We intend to issue instructions to CBP 15 days after publication of the final results of this review.

Cash Deposit Requirements

In accordance with section 751(a)(1) of the Act, the Department intends to instruct CBP to collect cash deposits of estimated countervailing duties in the amounts shown for each of the respective companies listed above. For all non-reviewed firms, we will instruct CBP to continue to collect cash deposits at the most recent company specific or all-others rate applicable to the company. These cash deposit requirements, when imposed, shall remain in effect until further notice.

This administrative review and notice are in accordance with sections 751(a)(1) and 777(i) of the Act and 19 CFR 351.213.

Dated: December 30, 2016.
Paul Piquado,
Assistant Secretary for Enforcement and Compliance.

Appendix I

List of Topics Discussed in the Preliminary Decision Memorandum

I. Summary

II. Background

A. Case History

B. Postponement of Preliminary Determination

C. Period of Review

D. Rescission of Review, in Part

E. Intent To Rescind, in Part, the Administrative Review

III. Scope of the Order

IV. Subsidies Valuation

A. Allocation Period

B. Attribution of Subsidies

C. Denominators

D. Loan Benchmarks and Discount Rates

V. Analysis of Programs

A. Programs Preliminarily Determined To Be Countervailable

B. Programs Which Provided No Measurable Benefit During the POR

C. Programs Preliminarily Determined To Be Not Used

VI. Preliminary Ad Valorem Rate for Non-Selected Companies Under Review

VII. Recommendation

[FR Doc. 2017-00139 Filed 1-6-17; 8:45 am]

BILLING CODE 3510-DS-P